ENVIRONMENTAL PROTECTION AGENCY

40 CFR Part 52

[EPA-R05-OAR-2018-0008; FRL-9978-63-Region 5]

Air Plan Approval; Wisconsin; Particulate Matter Standard

AGENCY: Environmental Protection Agency (EPA).

ACTION: Proposed rule.

SUMMARY: The Environmental Protection Agency (EPA) is proposing to approve a January 4, 2018, request by the Wisconsin Department of Natural Resources (Wisconsin) to revise its state implementation plan (SIP) for fine particulate matter (PM2.5). Wisconsin updated its ambient air quality standards for PM2.5 to be consistent with EPA's 2012 revisions to the PM2.5 national ambient air quality standards (NAAQS). Wisconsin also revised its incorporation by reference rule to update references to the EPA monitoring methods.

DATES: Comments must be received on or before June 25, 2018.

ADDRESSES: Submit your comments, identified by Docket ID No. EPA-R05-OAR-2018-0008 at http://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. Background

II. What is EPA's Analysis?

III. What Action is EPA Taking?

IV. Incorporation by Reference.

V. Statutory and Executive Order Reviews.

I. Background

On January 15, 2013, EPA revised the primary (protective of human health) annual PM2.5 NAAQS to a level of 12.0 micrograms per cubic meter (µg/m³). EPA also retained the annual PM2.5 secondary (protective of public welfare) NAAQS set at a level of 15.0 µg/m³, along with the 24-hour primary and secondary NAAQS for PM2.5 at a level of 35 µg/m³. 40 CFR 50.13 and 40 CFR 50.18.

Wisconsin revised its ambient air quality rules in chapter NR 404 such that its PM2.5 standards are consistent with EPA's revision. Wisconsin modified NR 404.04(9) by splitting the PM2.5 standards into separate sections for the primary and secondary standards. Wisconsin added NR 404.04(9)(am) for the primary PM2.5 standard and NR 404.04(9)(bm) for the secondary PM2.5 standard. In NR 404.04(9)(am), the primary annual PM2.5 standard was revised from 15.0 to 12.0 µg/m³ with the 24-hour primary PM2.5 standard remaining at 35 µg/m³. Wisconsin retained the current secondary standard, 15.0 µg/m³ annual and 35 µg/m³ 24-hour, in the new NR 404.04(9)(bm).

Wisconsin also included monitoring method requirements in both NR 404.04(9)(am) and (bm). The ambient PM2.5 is to be measured by the methods of 40 CFR part 50, appendices L and N, for both standards. 40 CFR part 50, appendix L, is the Reference Method for the Determination of Fine Particulate Matter as PM2.5 in the Atmosphere, while, 40 CFR part 50, appendix N, is the Interpretation of the National Ambient Air Quality Standards for PM2.5.

Wisconsin also revised its incorporation by reference rules in chapter NR 484. Wisconsin altered NR 484.04(6g) and NR 484.04(6r). The state amended NR 484.04(6g) by incorporating by reference 40 CFR part 50, appendix L, Reference Method for the Determination of Particulate Matter as PM2.5 in the Atmosphere, into NR 404.04(9). The state amended NR 484.04(6r) by incorporating by reference 40 CFR part 50, appendix N, Interpretation of the National Ambient Air Quality Standards for PM2.5, into NR 404.04(9).

Wisconsin held a public comment period for these revisions from July 14, 2016, to August 31, 2016, and a public hearing on August 25, 2016. No comments were received.

II. What is EPA's Analysis?

Wisconsin's revisions to NR 404.04(9) make its ambient air quality standard consistent with the 2012 PM2.5 NAAQS. Wisconsin revised the primary PM2.5 annual standard following EPA's revisions, while retaining the current secondary annual and 24-hour PM2.5 primary and secondary standards. Wisconsin changed its rule to separate the primary and secondary PM2.5 standards into separate sections. Separating the primary and secondary standards allows one to easily determine what the primary PM2.5 standards are and what methods are used to determine if those standards are met. This is also true for the secondary PM2.5 standards.

Wisconsin's revisions to NR 484.04(6g) and NR 484.04(6r) are acceptable. The EPA monitoring methods referenced are consistent with the requirements of the 2012 PM2.5 NAAQS. The incorporation by reference revisions keep the references current.

III. What Action is EPA Taking?

EPA is proposing to approve revisions to NR 404.04(9), NR 484.04(6g), and NR 484.04(6r), as submitted on January 4, 2018. The revisions to the ambient air quality standards and the incorporation by reference rules make Wisconsin's standards consistent with 2012 PM2.5 NAAQS.

IV. Incorporation by Reference

In this rule, EPA is proposing to include in a final EPA rule regulatory text that includes incorporation by reference. In accordance with requirements of 1 CFR 51.5, EPA is proposing to incorporate by reference NR 404.04(9), NR 484.04(6g), and NR 484.04(6r), effective January 1, 2018. EPA has made, and will continue to make, these documents generally available through www.regulations.gov and at the EPA Region 5 Office (please contact the person identified in the For Further Information Contact section of this preamble for more information).

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Particulate matter, Reporting and recordkeeping requirements.

Dated: May 16, 2018.
Cathy Stepp,
Regional Administrator, Region 5.

[FR Doc. 2018-11315 Filed 5-24-18; 8:45 am]

BILLING CODE 6560-50-P